DEPARTMENT OF HOMELAND SECURITY

Transportation Security Administration

Notice of Intent To Request Renewal From the Office of Management and Budget (OMB) of One Current Public Collection of Information; Flight Training for Aliens and Other Designated Individuals; Security Awareness Training for Flight School Employees

AGENCY: Transportation Security Administration (TSA), DHS.

ACTION: Notice.

SUMMARY: TSA invites public comment on an existing information collection requirement, abstracted below, that will be submitted to OMB for renewal in compliance with the Paperwork Reduction Act.

DATES: Send your comments by January 25, 2005.

ADDRESSES: Comments to be delivered to Lyn Rahilly, Deputy Privacy Officer, TSA Headquarters, East Tower, Floor 7, TSA-9, 601 South 12th Street, Arlington, VA 22202-4220; telephone (571) 227-2624; facsimile (571) 227-2559.

FOR FURTHER INFORMATION CONTACT: Lyn Rahilly, Deputy Privacy Officer, (571) 227-2624.

SUPPLEMENTARY INFORMATION: In accordance with the Paperwork Reduction Act of 1995, (44 U.S.C. 3501 et seq.), an agency may not conduct or sponsor, and a person is not required to respond to a collection of information, unless it displays a valid OMB control number. Therefore, in preparation for submission of the specified information collection for renewal, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology where appropriate.

1652-0021, Flight Training for Aliens and Other Designated Individuals; Security Awareness Training for Flight School Employees, 49 CFR part 1552. Pursuant to section 612 of the Vision 100—Century of Aviation Reauthorization Act, TSA is required to conduct background checks for all aliens and other designated individuals seeking flight instruction at Federal Aviation Administration (FAA)-endorsed schools to determine a candidate's flight training eligibility. By a rule published in the Federal Register on September 20, 2004 (69 FR 56324), TSA developed and implemented the requirements at 49 CFR part 1552, prescribing standards relating to the security threat assessment process that TSA will conduct to determine whether such individuals are a threat to aviation or national security, and thus prohibited from receiving flight training. The collection of information required under part 1552 permits TSA to gather candidates' biographic information and fingerprints, which are used to perform the background checks. Additionally, flight schools are required to conduct a security awareness program for their employees to increase awareness of suspicious circumstances and activities of individuals enrolling in or attending flight school. The flight school may use the initial security awareness training program offered by TSA or an alternative initial training program offered by a third party or designed by the flight school itself. Each flight school employee must receive recurrent security awareness training each year and flight schools must maintain records of the training throughout the course of the individual's employment and for one year after the individual is no longer a flight school employee.

TSA estimates a total of 38,000 respondents annually (35,000 pilot training candidates and 3,000 flight schools). Respondents will be required to provide the subject information every time an alien or other designated individual applies for pilot training as described in the regulation, which is estimated to be twice a year per applicant, for a total of 70,000 responses per year. It is estimated that it will take 45 minutes per application to provide TSA with all of the information required, for a total approximate application burden of 52,500 hours per year. Flight schools must keep records from the time they are created for five years, and it is estimated that each of the 3,000 flight schools will carry an annual record-keeping burden of 104 hours, for a total of 312,000 hours. Thus, TSA estimates the combined hour burden associated with this collection to be 364,500 hours annually.

The approval of this information collection expires on March 31, 2005.

Issued in Arlington, Virginia, on November 18, 2004.
Lisa S. Dean,
Privacy Officer.

[FR Doc. 04-26105 Filed 11-24-04; 8:45 am]

BILLING CODE 4910-62-P